DEPARTMENT OF DEFENSE

Office of the Secretary

[Docket ID: DOD-2025-OS-0804]

Proposed Collection; Comment Request

AGENCY: Office of the Under Secretary of Defense for Intelligence and Security (OUSD(I&S)), Department of Defense (DoD).

ACTION: 60-Day information collection notice.

SUMMARY: In compliance with the Paperwork Reduction Act of 1995, the Defense Counterintelligence and Security Agency (DCSA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 17, 2026.

ADDRESSES: You may submit comments, identified by docket number and title, by any of the following methods:

Federal eRulemaking Portal: http://www.regulations.gov. Follow the instructions for submitting comments.

Mail: Department of Defense, Department of Defense, Privacy, Civil Liberties, and Transparency Directorate, Office of the Director of Administration & Management, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Counterintelligence and Security Agency, Stepheny Fanning, Quantico, VA 22134, Stepheny.L.Fanning.civ@mail.mil or 571-572-2456.

SUPPLEMENTARY INFORMATION:

Title; Associated Form; and OMB Number: FOCI Outside Director/Proxy Holder Nominee and Nominating Official Questionnaires; OMB Control Number 0705-0005.

Needs and Uses: The Foreign Ownership, Control, or Influence (FOCI) Outside Director/Proxy Holder Nominee and Nominating Official Questionnaires are essential for DCSA to effectively oversee companies operating under FOCI while performing United States Government contracts. This information allows DCSA to assess the qualifications and suitability of Outside Director/Proxy Holder(s) (OD/PH) nominees, ensuring they can mitigate foreign influence and protect sensitive government information. Data from nominating officials provides insight into the rationale behind the nomination, enabling DCSA to make informed decisions regarding OD/PH approvals and safeguard national security interests.

Affected Public: Individuals or households; Business or other for-profit.

Annual Burden Hours: 192.

Number of Respondents: 256.

Responses per Respondent: 1.

Annual Responses: 256.

Average Burden per Response: 45 minutes.

Frequency: On occasion.

Dated: December 12, 2025.
Stephanie J. Bost,
Alternate OSD Federal Register Liaison Officer, Department of Defense.

[FR Doc. 2025-22980 Filed 12-15-25; 8:45 am]

BILLING CODE 6001-FR-P